Proclamation 9664 of October 23, 2017

United Nations Day, 2017

By the President of the United States of America

A Proclamation

On United Nations Day, we recognize the more than seven decades of contributions the United Nations has made to peace and security among nations. The United Nations was founded on the vision that diverse nations could cooperate to preserve sovereignty, enhance security, build prosperity, and promote human rights and fundamental freedoms. Its purpose remains as essential today as ever before. As the world faces increasing transnational threats—including the spread of terrorism and mass atrocities around the globe, the risk of famine and humanitarian crises, and nuclear proliferation by rogue regimes that threaten others with the most destructive weapons known to humanity—we call on all member states to reaffirm their commitments to the obligations and responsibilities enshrined in the United Nations Charter.

Member states should work together as the founders of the United Nations intended and confront those who threaten chaos, turmoil, and terror. We continue to believe that the United Nations can play an important role in resolving international disputes and that its success depends on a coalition of strong sovereign nations. This year alone, the United States has led efforts at the United Nations to strengthen and expand sanctions against North Korea, review the mandates of peacekeeping missions to make sure they are achievable, and promote an ambitious campaign of reform, including with respect to the United Nations Human Rights Council. The United Nations Security Council, of which the United States is a permanent member, remains, as ever, a valuable forum for responding to threats to international peace and security.

We remain hopeful that the United Nations can achieve its goals of maintaining international peace and security and developing friendly relations among nations. We expect member states to hold the United Nations accountable, just as we expect people around the world to hold their own governments accountable. Although a great deal of work remains to be done for the United Nations to realize its full potential, we reaffirm our commitment to its goals in order to build a better tomorrow for future generations.

On United Nations Day, we also pause to acknowledge the men and women who serve in faraway peacekeeping missions, who provide humanitarian assistance to people in war-torn countries, who endeavor to keep the world safe from weapons of mass destruction, and who protect innocent children. Through their effort and personal sacrifice, they bring hope and relief to countless people in need.

NOW, THEREFORE, I, DONALD J. TRUMP, President of the United States of America, by virtue of the authority vested in me by the Constitution and the laws of the United States, do hereby proclaim October 24, 2017, as United Nations Day. I urge the Governors of the 50 States, the Governor of the Commonwealth of Puerto Rico, and the officials of all other areas under the flag of the United States, to observe United Nations Day with appropriate ceremonies and activities.

IN WITNESS WHEREOF, I have hereunto set my hand this twenty-third day of October, in the year of our Lord two thousand seventeen, and of the Independence of the United States of America the two hundred and forty-second.

[FR Doc. 2017-23622

Filed 10-26-17; 11:15 am]

Billing code 3295-F8-P